DEPARTMENT OF ENERGY

Federal Energy Regulatory Commission

Combined Notice of Filings

Take notice that the Commission has received the following Natural Gas Pipeline Rate and Refund Report filings:

Filings Instituting Proceedings

Docket Numbers: RP12-61-000.

Applicants: Gulf Crossing Pipeline Company LLC.

Description: Gulf Crossing Pipeline Company LLC submits tariff filing per 154.204: Antero 2 to Tenaska 222 Capacity Release Negotiated Rate Agreement Filing to be effective 11/1/2011.

Filed Date: 10/27/2011.

Accession Number: 20111027-5073.

Comment Date: 5 p.m. Eastern Time on Tuesday, November 08, 2011.

Docket Numbers: RP12-63-000.

Applicants: Gulf South Pipeline Company, LP.

Description: Gulf South Pipeline Company, LP submits tariff filing per 154.204: HK 37733 to Texla 39286 to be effective 11/1/2011.

Filed Date: 10/27/2011.

Accession Number: 20111027-5097.

Comment Date: 5 p.m. Eastern Time on Tuesday, November 08, 2011.

Docket Numbers: RP12-64-000.

Applicants: Colorado Interstate Gas Company.

Description: Operational Purchases and Sales Report for the 12 month ending June 30, 2011 of Colorado Interstate Gas Company.

Filed Date: 10/27/2011.

Accession Number: 20111027-5108.

Comment Date: 5 p.m. Eastern Time on Tuesday, November 08, 2011.

Docket Numbers: RP12-65-000.

Applicants: Central New York Oil And Gas, LLC.

Description: Central New York Oil And Gas, LLC submits tariff filing per 154.204: Amendments to FWSAs 10-27-11 to be effective 11/1/2011.

Filed Date: 10/27/2011.

Accession Number: 20111027-5145.

Comment Date: 5 p.m. Eastern Time on Tuesday, November 08, 2011.

Docket Numbers: RP12-67-000.

Applicants: Texas Eastern Transmission, LP.

Description: Texas Eastern Transmission, LP submits tariff filing per 154.204: PSEG ERT 11-01-2011 Negotiated Rate to be effective 11/1/2011.

Filed Date: 10/28/2011.

Accession Number: 20111028-5012.

Comment Date: 5 p.m. Eastern Time on Wednesday, November 09, 2011.

Docket Numbers: RP12-68-000.

Applicants: National Fuel Gas Supply Corporation.

Description: National Fuel Gas Supply Corporation submits tariff filing per 154.204: IG Rate for November 2011 to be effective 11/1/2011.

Filed Date: 10/28/2011.

Accession Number: 20111028-5039.

Comment Date: 5 p.m. Eastern Time on Wednesday, November 09, 2011.

Docket Numbers: RP12-69-000.

Applicants: East Tennessee Natural Gas, LLC.

Description: East Tennessee Natural Gas, LLC submits tariff filing per 154.204: ETNG Cleanup Filing to be effective 12/1/2011.

Filed Date: 10/28/2011.

Accession Number: 20111028-5041.

Comment Date: 5 p.m. Eastern Time on Wednesday, November 09, 2011.

Docket Numbers: RP12-70-000.

Applicants: Saltville Gas Storage Company LLC.

Description: Saltville Gas Storage Company LLC. submits tariff filing per 154.204: Tariff Cleanup Filing to be effective 12/1/2011.

Filed Date: 10/28/2011.

Accession Number: 20111028-5042.

Comment Date: 5 p.m. Eastern Time on Wednesday, November 09, 2011.

Docket Numbers: RP12-71-000.

Applicants: Williston Basin Interstate Pipeline Company.

Description: Williston Basin Interstate Pipeline Company submits tariff filing per 154.204: Negotiated Rate Discount Adjustment to be effective 11/28/2011.

Filed Date: 10/28/2011.

Accession Number: 20111028-5051.

Comment Date: 5 p.m. Eastern Time on Wednesday, November 09, 2011.

Docket Numbers: RP12-72-000.

Applicants: Kinder Morgan Interstate Gas Transmission LLC.

Description: Kinder Morgan Interstate Gas Transmission LLC submits tariff filing per 154.204: Negotiated Rate 2011-10-28 TMV to be effective 11/1/2011.

Filed Date: 10/28/2011.

Accession Number: 20111028-5077.

Comment Date: 5 p.m. Eastern Time on Wednesday, November 09, 2011.

Docket Numbers: RP12-73-000.

Applicants: Gulf Crossing Pipeline Company LLC.

Description: Gulf Crossing Pipeline Company LLC submits tariff filing per 154.204: Antero 3 to Tenaska 224 to be effective 11/1/2011.

Filed Date: 10/28/2011.

Accession Number: 20111028-5108.

Comment Date: 5 p.m. Eastern Time on Wednesday, November 09, 2011.

Docket Numbers: RP12-74-000.

Applicants: Gulf South Pipeline Company, LP.

Description: Gulf South Pipeline Company, LP submits tariff filing per 154.204: Daily Allocations Filing to be effective 12/1/2011.

Filed Date: 10/28/2011.

Accession Number: 20111028-5130.

Comment Date: 5 p.m. Eastern Time on Wednesday, November 09, 2011.

Docket Numbers: RP12-75-000.

Applicants: Southern LNG Company, LLC.

Description: Southern LNG Company, LLC. submits tariff filing per 154.204: SLNG Electric Power Cost Adjustment—2011 to be effective 12/1/2011.

Filed Date: 10/28/2011.

Accession Number: 20111028-5141.

Comment Date: 5 p.m. Eastern Time on Wednesday, November 09, 2011.

Docket Numbers: RP12-76-000.

Applicants: East Cheyenne Gas Storage, LLC.

Description: East Cheyenne Gas Storage, LLC submits tariff filing per 154.204: East Cheyenne Non-conforming Agreements to be effective 11/1/2011.

Filed Date: 10/28/2011.

Accession Number: 20111028-5200.

Comment Date: 5 p.m. Eastern Time on Wednesday, November 09, 2011.

Docket Numbers: RP12-77-000.

Applicants: Trunkline Gas Company, LLC.

Description: Trunkline Gas Company, LLC submits tariff filing per 154.203: Annual Interruptible Storage Rev. Credit Surcharge Adjustment 10-31-11.

Filed Date: 10/31/2011.

Accession Number: 20111031-5120.

Comment Date: 5 p.m. Eastern Time on Monday, November 14, 2011.

Docket Numbers: RP12-78-000

Applicants: Algonquin Gas Transmission, LLC

Description: Algonquin Gas Transmission, LLC submits tariff filing per 154.204: ConEd 2011-11-01 Releases #1 to be effective 11/1/2011.

Filed Date: 10/31/2011.

Accession Number: 20111031-5125.

Comment Date: 5 p.m. Eastern Time on Monday, November 14, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1566-007.

Applicants: Tennessee Gas Pipeline Company, LLC.

Description: Tennessee Gas Pipeline Company, LLC. submits tariff filing per 154.203: Update Tariff Record No 19 to be effective 11/1/2011.

Filed Date: 10/28/2011.

Accession Number: 20111028-5185.

Comment Date: 5 p.m. Eastern Time on Wednesday, November 09, 2011.

Docket Numbers: RP11-2552-001.

Applicants: Central New York Oil And Gas, LLC.

Description: Central New York Oil And Gas, LLC submits tariff filing per 154.203: MFN Amendments Compliance Filing to be effective 12/31/9998.

Filed Date: 10/28/2011.

Accession Number: 20111028-5107.

Comment Date: 5 p.m. Eastern Time on Wednesday, November 09, 2011.

Docket Numbers: RP12-48-001.

Applicants: Kinder Morgan Interstate Gas Transmission LLC.

Description: Kinder Morgan Interstate Gas Transmission LLC submits tariff filing per 154.205(b): Settlement—Fuel Amendment 2011-10-28 to be effective 1/1/2012.

Filed Date: 10/28/2011.

Accession Number: 20111028-5075.

Comment Date: 5 p.m. Eastern Time on Wednesday, November 09, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 31, 2011.
Nathaniel J. Davis, Sr.,
Deputy Secretary.

[FR Doc. 2011-28592 Filed 11-3-11; 8:45 am]

BILLING CODE 6717-01-P